DEPARTMENT OF ENERGY

Federal Energy Regulatory Commission

[Docket No. ER00-3784-000, et al.]

Valley Electric Association, Inc., et al.; Electric Rate and Corporate Regulation Filings

October 3, 2000.

Take notice that the following filings have been made with the Commission:

1. Valley Electric Association, Inc.

[Docket No. ER00-3784-000]

Take notice that on September 29, 2000, Valley Electric Association, Inc., tendered for filing an agreement extending the term of a transmission capacity contract with the United States Department of Energy.

A copy of the filing was served upon the Department of Energy.

Comment date: October 20, 2000, in accordance with Standard Paragraph E at the end of this notice.

2. Golden Spread Electric Cooperative, Inc.

[Docket No. ER00-3338-001]

The Montana Power Trading and Marketing Company

[Docket Nos. ER00-3367-001 and ER00-3368-001]

Take notice that on September 29, 2000, the Western Systems Power Pool (WSPP), tendered for filing a revised version of the WSPP Agreement (Agreement) in compliance with the Federal Energy Regulatory Commission's September 15, 2000 order in the proceedings captioned above. The WSPP states that the changes reflected in the revised Agreement are non-substantial, and only involve reformatting the Agreement as required by Order No. 614, Designation of Electric Rate Schedule Sheets, III FERC Stats. & Regs. ¶ 31,096 (2000).

The WSPP seeks an effective date of July 1, 2000 for this filing, the same date as assigned to the currently effective version of the Agreement.

Comment date: October 20, 2000, in accordance with Standard Paragraph E at the end of this notice.

3. FirstEnergy Operating Companies

[Docket No. ER00-3771-000]

Take notice that on September 29, 2000, The Cleveland Electric Illuminating Company, Ohio Edison Company, Pennsylvania Power Company and The Toledo Edison Company (collectively, the FirstEnergy Operating Companies), tendered for filing the following items:

• FERC Electric Tariff, Original Volume No. 3 of the FirstEnergy Operating Companies (“Ancillary Services Tariff”).

• Service Agreement No. 3 under the Ancillary Services Tariff for the sale of ancillary services by the FirstEnergy Operating Companies to American Transmission Systems, Inc. (“ATSI”), a transmission-company affiliate of the FirstEnergy Operating Companies, from September 1, 2000 through August 31, 2003.

The FirstEnergy Operating Companies state that they have recently transferred their transmission facilities to ATSI, which does not own or control any generation resources. Because generation and transmission facilities historically owned by the FirstEnergy Operating Companies are now owned and operated by separate corporate entities, the FirstEnergy Operating Companies are offering to sell specified ancillary services under the Ancillary Services Tariff. The FirstEnergy Operating Companies state that the rates for most ancillary services available under the Ancillary Services Tariff are identical to rates that were previously incorporated in the open access transmission tariff of the FirstEnergy Operating Companies. In order to comply with FERC Order No. 888, ATSI initially will purchase ancillary services from the FirstEnergy Operating Companies in accordance with the rates, terms and conditions of the Ancillary Services Tariff.

The FirstEnergy Operating Companies are proposing to make the Ancillary Services Tariff and Service Agreement No. 1 thereunder effective as of September 1, 2000.

Comment date: October 20, 2000, in accordance with Standard Paragraph E at the end of this notice.

4. Arizona Public Service Company

[Docket No. ER00-3772-000]

Take notice that on September 29, 2000, Arizona Public Service Company (APS), tendered for filing umbrella Service Agreement to provide Short-Term Firm Point-to-Point Transmission Service to PacifiCorp Power Marketing, Inc., under APS' Open Access Transmission Tariff.

A copy of this filing has been served on PacifiCorp Power Marketing, Inc., and the Arizona Corporation Commission.

Comment date: October 20, 2000, in accordance with Standard Paragraph E at the end of this notice.

5. Niagara Mohawk Power Corporation

[Docket No. ER00-3773-000]

Take notice that on September 29, 2000, Adirondack Fourth Branch, LLC, tendered for filing on behalf of Niagara Mohawk Power Corporation, an Interconnection Agreement between Niagara Mohawk and Adirondack Fourth Branch.

Comment date: October 20, 2000, in accordance with Standard Paragraph E at the end of this notice.

6. Adirondack Hydro Fourth Branch, LLC.

[Docket No. ER00-3774-000]

Take notice that on September 29, 2000, Adirondack Hydro Fourth Branch, LLC (Adirondack), tendered for filing an application for authorization to make wholesale sales of electric power at market-based rates, acceptance of a long-term power purchase agreement with Niagara Mohawk Power Company (Niagara Mohawk), and waiver of certain of the Commission's Regulations and blanket approval to engage in certain transactions.

Adirondack state that copies of this filing are being mailed to Niagara Mohawk and to the New York Public Service Commission.

Comment date: October 20, 2000, in accordance with Standard Paragraph E at the end of this notice.

7. SOWEGA Power, LLC.

[Docket No. ER00-3775-000]

Take notice that on September 29, 2000, SOWEGA Power LLC tendered for filing amended and restated long-term service agreements with Grady Electric Membership Corporation and Three Notch Electric Membership Corporation pursuant to SOWEGA Power LLC's market-based tariff, FERC Electric Tariff, Original Vol. No. 1. These amended and restated long-term service agreements are designated as SOWEGA Power's First Revised Service Agreement No. 1 and First Revised Service Agreement No. 2, respectively.

Comment date: October 20, 2000, in accordance with Standard Paragraph E at the end of this notice.

8. Green Power Partners I, LLC.

[Docket No. ER00-3776-000]

Take notice that on September 29, 2000, Green Power Partners I LLC tendered for filing its Notice of Cancellation effective September 29, 2000, pursuant to Sections 35.15 and 131.53 of the Commission's Regulations, 18 CFR 35.15 and 131.53, with respect to Rate Schedule FERC Nos. 1 and 2, and supplements thereto. Green Power Partners I LLC is now a qualifying facility under Part 292 of the Commission's regulations, 18 CFR Part 292, and accordingly is canceling its rates schedule and supplements.

Comment date: October 20, 2000, in accordance with Standard Paragraph E at the end of this notice.

9. Jersey Central Power & Light Company, Metropolitan Edison Company, Pennsylvania Electric Company

[Docket No. ER00-3777-000]

Take notice that on September 29, 2000, Jersey Central Power & Light Company, Metropolitan Edison Company and Pennsylvania Electric Company (d/b/a GPU Energy), tendered for filing an executed Service Agreement between GPU Energy and PG&E Energy Services (PGE), dated September 28, 2000. This Service Agreement specifies that PGE has agreed to the rates, terms and conditions of GPU Energy's Market-Based Sales Tariff (Sales Tariff) designated as FERC Electric Rate Schedule, Second Revised Volume No. 5. The Sales Tariff allows GPU Energy and PGE to enter into separately scheduled transactions under which GPU Energy will make available for sale, surplus capacity and/or energy.

GPU Energy requests a waiver of the Commission's notice requirements for good cause shown and an effective date of September 28, 2000 for the Service Agreement.

GPU Energy has served copies of the filing on regulatory agencies in New Jersey and Pennsylvania.

Comment date: October 20, 2000, in accordance with Standard Paragraph E at the end of this notice.

10. American Electric Power Service Corporation

[Docket No. ER00-3778-000]

Take notice that on September 29, 2000, the American Electric Power Service Corporation (AEPSC), tendered for filing executed Firm and Non-Firm Point-to-Point Transmission Service Agreements for Alliance Energy Services Partnership, British Columbia Power Exchange Corporation, and North Carolina Electric Marketing, LLC and Specifications for Long-Term Firm Point-to-Point Transmission Service Reservations to be attached as addenda to the previously filed Firm Point-to-Point Transmission Service Agreements with Commonwealth Edison Company, Michigan Companies (Consumers Energy and The Detroit Edison Company), and Virginia Power Company. All of these agreements are pursuant to the AEP Companies' Open Access Transmission Service Tariff (OATT) that has been designated as the Operating Companies of the American Electric Power System FERC Electric Tariff Revised Volume No. 6, effective June 15, 2000.

AEPSC requests waiver of notice to permit the Service Agreements to be made effective for service billed on and after September 1, 2000.

Pursuant to a request by Public Service Electric and Gas Company (PSE&G), the Non-firm Point-to-Point Transmission Service Agreement No. 71, under AEP Companies' FERC Electric Tariff Original Volume No. 4, is being assigned to PSEG Energy Resources & Trade LLC (PSEG ER&T). The AEP Companies' FERC Electric Tariff Original Volume No. 4 is superceded by the OATT.

A copy of the filing was served upon the Parties and the state utility regulatory commissions of Arkansas, Indiana, Kentucky, Louisiana, Michigan, Ohio, Oklahoma, Tennessee, Texas, Virginia and West Virginia.

Comment date: October 20, 2000, in accordance with Standard Paragraph E at the end of this notice.

11. Commonwealth Edison Company

[Docket No. ER00-3779-000]

Take notice that on September 29, 2000, Commonwealth Edison Company (ComEd), tendered for filing 12 Short-Term Firm Transmission Service Agreements with Allegheny Energy Supply Company, LLC (AESC), British Columbia Power Exchange Corporation (PowerEx), Cargill-Alliant, LLC (Alliant), Dynegy Power Marketing, Inc. (DYPM), El Paso Merchant Energy, L.P. (EPME), Illinois Municipal Electric Agency (IMEA), InPower Marketing Corp. (INPM), Koch Energy Trading, Inc. (Koch), PECO Energy Company (PECO), Split Rock Energy LLC (SRE), Tractebel Energy Marketing, Inc. (TEMI), and Wisconsin Public Service Corporation (WPS) under the terms of ComEd's Open Access Transmission Tariff (OATT). These Agreements have been amended to provide that Transmission Customers must confirm accepted requests for service within the reservation timing requirements established in the Commission's Order No. 638. These Agreements amend and supersede agreements already on file with the Commission.

ComEd requests an effective date of May 30, 2000 for the Agreements, and accordingly, seeks waiver of the Commission's notice requirements.

Comment date: October 20, 2000, in accordance with Standard Paragraph E at the end of this notice.

12. Wisconsin Public Service Corporation

[Docket No. ER00-3780-000]

Take notice that on September 29, 2000, WPS Resources Operating Companies (WPS), tendered for filing unexecuted service agreements with Village of Stratford Water & Electric Utility (Stratford) and with Washington Island Electric Cooperative (Washington Island) for Network Integration Transmission Service under WPS's open access transmission tariff, FERC Electric Tariff, Volume No. 1 (Tariff). The purpose of this filing is to include distribution loss compensation service factors applicable to the billing of ancillary services under Schedules 3, 5 and 6 of the Tariff, and make other minor changes. WPS also files notices of cancellation for the prior service agreements for these customers.

Copies of the filing were served upon Stratford, Washington Island, the Public Service Commission of Wisconsin and the Michigan Public Service Commission.

Comment date: October 20, 2000, in accordance with Standard Paragraph E at the end of this notice.

13. The Montana Power Company

[Docket No. ER00-3781-000]

Take notice that on September 29, 2000, The Montana Power Company (Montana), tendered for filing with the Federal Energy Regulatory Commission pursuant to 18 CFR 35.13 an unexecuted Network Integration Transmission Service Agreement with Holnam, Inc., under Montana's FERC Electric Tariff, Fourth Revised Volume No. 5 (Open Access Transmission Tariff).

A copy of the filing was served upon Holnam, Inc.

Comment date: October 20, 2000, in accordance with Standard Paragraph E at the end of this notice.

14. Entergy Services, Inc.

[Docket No. ER00-3782-000]

Take notice that on September 29, 2000, Entergy Services, Inc., on behalf of Entergy Arkansas, Inc., tendered for filing a modified and redesignated Interconnection and Operating Agreement with Union Power Partners, L.P. (UPP), and a redesignated Generator Imbalance Agreement with UPP. The modified Interconnection and Operating Agreement reflects the alterations necessary to conform the Interconnection and Operating Agreement to the First Amendment to that Agreement.

Comment date: October 20, 2000, in accordance with Standard Paragraph E at the end of this notice.

15. AES Mohave, LLC.

[Docket No. ER00-3783-000]

Take notice that on September 28, 2000, AES Mohave, LLC (AES Mohave) petitioned the Commission for acceptance for filing of the Transitional Power Purchase Agreement between AES Mohave and Nevada Power Company and to accept the rates under the agreement as just and reasonable under Section 205(a) of the Federal Power Act, 16 U.S.C. 824d(a); for the granting of certain blanket approvals, including the authority to sell capacity, energy and certain Ancillary Services at market-based rates; and for the waiver of certain Commission regulations. AES Mohave is a limited liability company that proposes to engage in the wholesale sale of electric power in the state of Nevada.

Comment date: October 20, 2000, in accordance with Standard Paragraph E at the end of this notice.

16. Virginia Electric and Power Company

[Docket No. ER00-3785-000]

Take notice that on September 29, 2000, Virginia Electric and Power Company (Dominion Virginia Power), tendered for filing an Amended Settlement Agreement between Virginia Electric and Power Company and North Carolina Eastern Municipal Power Agency, North Carolina Electric Membership Corporation, Southeastern Federal Power Customers, Inc., Southeastern Power Administration, Virginia Municipal Electric Association No. 1, Central Virginia Electric Cooperative, Inc., Craig-Botetourt Electric Cooperative, Inc., and Old Dominion Electric Cooperative. The Amended Settlement Agreement amends the Settlement Agreement accepted by the Commission on October 28, 1999 in Docket No. ER99-417-000.

Dominion Virginia Power requests an effective date of September 29, 2000, the date of filing of the Amended Settlement Agreement.

Copies of the filing were served upon the parties of record in Docket No. ER99-417-000, North Carolina Eastern Municipal Power Agency, North Carolina Electric Membership Corporation, Southeastern Federal Power Customers, Inc., Southeastern Power Administration, Virginia Municipal Electric Association No. 1, Central Virginia Electric Cooperative, Inc., Craig-Botetourt Electric Cooperative, Inc., Old Dominion Electric Cooperative, the Virginia State Corporation Commission, the Public Service Commission of West Virginia, and the North Carolina Utilities Commission.

Comment date: October 20, 2000, in accordance with Standard Paragraph E at the end of this notice.

17. Atlantic City Electric Company

[Docket No. ER00-3786-000]

Take notice that on September 29, 2000, Atlantic City Electric Company (Atlantic), tendered for filing an executed umbrella service agreement with PSEG Energy Resources & Trade LLC under Atlantic's market rate sales tariff, FERC Electric Tariff, Second Revised Volume No. 1.

Atlantic requests an effective date of September 1, 2000.

Comment date: October 20, 2000, in accordance with Standard Paragraph E at the end of this notice.

18. Delmarva Power & Light Company

[Docket No. ER00-3787-000]

Take notice that on September 29, 2000, Delmarva Power & Light Company (Delmarva), tendered for filing an executed umbrella service agreement with PSEG Energy Resources & Trade LLC under Delmarva's market rate sales tariff, FERC Electric Tariff, Second Revised Volume No. 14.

Delmarva requests an effective date of September 1, 2000.

Comment date: October 20, 2000, in accordance with Standard Paragraph E at the end of this notice.

19. Commonwealth Edison Company

[Docket No. ER00-3788-000]

Take notice that on September 29, 2000, Commonwealth Edison Company (ComEd), tendered for filing two Network Service Agreements (Service Agreements) and two Network Operating Agreements (Operating Agreements) between ComEd and the City of Batavia and the City of St. Charles. These agreements will govern ComEd's provision of network service load under the terms of ComEd's Open Access Transmission Tariff (OATT).

ComEd requests an effective date of September 1, 2000 for the Agreements, and accordingly, seeks waiver of the Commission's notice requirements.

Comment date: October 20, 2000, in accordance with Standard Paragraph E at the end of this notice.

20. PSI Energy, Inc.

[Docket No. ER00-3789-000]

Take notice that on September 29, 2000, PSI Energy, Inc., tendered for filing its Power Coordination Agreement and Power Supply Agreement with Wabash Valley Power Association and its Service Agreement for Firm Point-to-Point Transmission Service with the City of Logansport, Indiana, redesignated according to Order No. 614. This filing is being made in conjunction with the filing of revised pages to these three agreements as part of a partial settlement in Docket No. ER00-188.

This filing has been served on the Wabash Valley Power Association and Logansport Municipal Utilities.

Comment date: October 20, 2000, in accordance with Standard Paragraph E at the end of this notice.

21. Metropolitan Edison Company

[Docket No. ER00-3790-000]

Take notice that on September 29, 2000, Metropolitan Edison Company (Metropolitan Edison), tendered for filing a Generation Facility Interconnection Agreement (Agreement) by and between Metropolitan Edison and Green Knight Economic Development Corporation (Green Knight), entered into on September 11, 2000.

Copies of the filing were served upon Green Knight and regulators in the State of Pennsylvania.

Comment date: October 20, 2000, in accordance with Standard Paragraph E at the end of this notice.

22. Metropolitan Edison Company

[Docket No. ER00-3791-000]

Take notice that on September 29, 2000, Metropolitan Edison Company (Metropolitan Edison), tendered for filing a Generation Facility Interconnection Agreement (Agreement) by and between Metropolitan Edison and Lebanon Methane Recovery, Inc. (Lebanon Methane), entered into on July 17, 2000.

Copies of the filing were served upon Lebanon Methane and regulators in the State of Pennsylvania.

Comment date: October 20, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-25989 Filed 10-10-00; 8:45 am]

BILLING CODE 6717-01-P